DEPARTMENT OF HOMELAND SECURITY

Coast Guard

33 CFR Chapter I

[USCG-2004-19615]

Exclusion Zones for Marine LNG Spills

AGENCY: Coast Guard, Department of Homeland Security.

ACTION: Notice.

SUMMARY: The Coast Guard announces the availability of its response to a petition for rulemaking requesting issuance of regulations establishing thermal and vapor dispersion exclusion zones for marine spills of liquefied natural gas (LNG), by the City of Fall River, MA. The Coast Guard has determined that such a rulemaking project is unnecessary.

FOR FURTHER INFORMATION CONTACT: If you have questions regarding this notice, call Commander John Cushing, U.S. Coast Guard, telephone 202-267-1043 or via e-mail at jcushing@comdt.uscg.mil. If you have questions on viewing the docket, call Renee V. Wright, Program Manager, Docket Operations, telephone 202-493-0402.

SUPPLEMENTARY INFORMATION: The Coast Guard previously published three documents with requests for comments regarding the petition for a rulemaking by the City of Fall River, MA, on the subject of thermal and vapor dispersion exclusion zones for marine spills of LNG [see 69 FR 63979, Nov. 3, 2004; 70 FR 11912, March 10, 2005; 70 FR 36363, June 23, 2005]. Supplementary information was posted and made available in the docket (see “Viewing the Notice”). We received and reviewed 91 comments. After reviewing the comments and reaching a decision, we wrote a letter back to the petitioner denying the petition (also available in the docket).

The comments in support of establishing exclusion zones around transiting LNG ships focused on the consequences of a major LNG spill in close proximity to a densely populated urban area, particularly Fall River, MA.

The comments in opposition to the establishment of the aforementioned exclusion zones cited the proven safety record of the LNG industry, the robust safety features designed into LNG ships, and the effective safety and security procedures that have already been established by regulation and industry best practices and guidelines.

Taking into account the proven safety record of the LNG ships, we determined exclusion zone regulations are not needed because we already implemented policy (on June 14, 2005) through our Navigation and Vessel Inspection Circular (NVIC) 05-05, Guidance on Assessing the Suitability of a Waterway for Liquefied Natural Gas (LNG) Marine Traffic. This NVIC established a comprehensive process for a Waterway Suitability Assessment (WSA) to be completed and then reviewed and validated by the Coast Guard, in consultation with stakeholders at the port, to ensure all safety and security issues relating to the marine transportation of LNG for a proposed waterfront LNG facility are addressed.

Viewing the Notice: To view the notice and related documents, go to http://dms.dot.gov at any time, click on “Simple Search,” enter the last five digits of the docket number for this notice (19615), and click on “Search.” You may also visit the Docket Management Facility in room PL-401 on the Plaza level of the Nassif Building, 400 Seventh Street, SW., Washington, DC, between 9 a.m. and 5 p.m., Monday through Friday, except Federal holidays.

Dated: January 23, 2006.
Howard L. Hime,
Acting Director of Standards, Office of Prevention.

[FR Doc. 06-920 Filed 1-31-06; 8:45 am]

BILLING CODE 4910-15-P